DEPARTMENT OF ENERGY

Federal Energy Regulatory Commission

Notice of Commission Staff Attendance

The Federal Energy Regulatory Commission hereby gives notice that members of the Commission's staff may attend the following meetings related to the transmission planning activities of the PJM Interconnection, L.L.C. (PJM):

Combined PJM Regional Transmission Planning Task Force/PJM Interconnection Process Senior Task Force

October 13, 2011, 9:30 a.m.-3 p.m., Local Time.

November 14, 2011, 9:30 a.m.-3 p.m., Local Time.

December 9, 2011, 9:30 a.m.-3 p.m., Local Time.

PJM Markets and Reliability Committee

November 16, 2011, 9:30 a.m.-3 p.m., Local Time.

The above-referenced meetings will be held at:

The Chase Center on the Riverfront,

Wilmington, DE.

The above-referenced meetings are open to stakeholders.

Further information may be found at http://www.pjm.com. The discussions at the meeting described above may address matters at issue in the following proceedings:

Docket No. EL05-121, PJM Interconnection, L.L.C.

Docket No. ER06-456, ER06-954, ER06-1271, ER07-424, ER06-880, EL07-57, ER07-1186, ER08-229, ER08-1065, ER09-497, and ER10-268, PJM Interconnection, L.L.C.

Docket No. ER10-253 and EL10-14, Primary Power, L.L.C.

Docket No. EL10-52, Central Transmission, LLC v. PJM Interconnection, L.L.C.

Docket No. ER11-4070, RITELine Indiana et al.

Docket No. ER11-2875 and EL11-20, PJM Interconnection, L.L.C.

Docket No. ER08-386 and ER09-1256, Potomac-Appalachian Transmission Highline, L.L.C.

Docket No. ER09-1589, FirstEnergy Service Company.

Docket No. EL11-56, FirstEnergy Service Company.

FOR MORE INFORMATION CONTACT: Jonathan Fernandez, Office of Energy Market Regulation, Federal Energy Regulatory Commission at (202) 502-6604 or jonathan.fernandez@ferc.gov.

Dated: October 6, 2011.
Kimberly D. Bose,
Secretary.

[FR Doc. 2011-26570 Filed 10-13-11; 8:45 am]

BILLING CODE 6717-01-P